DEPARTMENT OF THE TREASURY

Internal Revenue Service

26 CFR Part 1

[REG-107151-00]

RIN 1545-AX99

Constructive Transfers and Transfers of Property to a Third Party on Behalf of a Spouse; Hearing Cancellation

AGENCY: Internal Revenue Service (IRS), Treasury.

ACTION: Cancellation of notice of public hearing on proposed rulemaking.

SUMMARY: This document provides notice of cancellation of a public hearing on proposed regulations relating to the tax treatment of certain redemptions, during marriage or incident to divorce, of stock owned by a spouse or former spouse.

DATES: The public hearing originally scheduled for Friday, December 14, 2001, at 10 a.m., is cancelled.

FOR FURTHER INFORMATION CONTACT: Guy R. Traynor, Regulations Unit, Associate Chief Counsel, (202) 622-7180 (not a toll-free number).

SUPPLEMENTARY INFORMATION: A notice of proposed rulemaking and notice of public hearing that appeared in the Federal Register on Friday, August 3, 2001, (66 FR 40659) announced that a public hearing was scheduled for December 14, 2001, at 10 a.m., in the auditorium of the Internal Revenue Service Building, 1111 Constitution Avenue NW., Washington, DC 20408. The subject of the public hearing is proposed regulations under section 1041 of the Internal Revenue Code. The public comment period for these proposed regulations expired on November 23, 2001.

The notice of proposed rulemaking and notice of public hearing, instructed those interested in testifying at the public hearing to submit a request to speak and an outline of the topics to be addressed. As of November 29, 2001, no one has requested to speak. Therefore, the public hearing scheduled for December 14, 2001, is cancelled.

Guy R. Traynor,
Federal Register Certifying Officer, Regulations Unit, Associate Chief Counsel (Income Tax & Accounting).

[FR Doc. 01-30030 Filed 12-4-01; 8:45 am]

BILLING CODE 4830-01-P